DEPARTMENT OF TRANSPORTATION

Federal Transit Administration

Intent to Prepare an Environmental Impact Statement on Transportation Improvements Within the Blue-Line Corridor in Shaker Heights and Warrensville Heights, Cuyahoga County, OH

AGENCY: Federal Transit Administration, U.S. Department of Transportation.

ACTION: Notice of Intent to prepare an Environmental Impact Statement.

SUMMARY: The Federal Transit Administration (FTA) and the Greater Cleveland Regional Transit Authority (GCRTA or RTA) are issuing this notice to advise interested agencies and the public that, in accordance with the National Environmental Policy Act (NEPA), an Environmental Impact Statement (EIS) may be prepared for the proposed transportation improvements in the Blue Line Corridor and extended areas located in Shaker Heights and Warrensville Heights, Cuyahoga County, Ohio.

The EIS will evaluate the following alternatives: (a) A no-build alternative; (b) a Transportation System Management (TSM) alternative; and (c) various build alternatives that emerge from the scoping process. Scoping will be accomplished through meetings and correspondence with interested persons, organizations, the general public, and federal, state and local agencies.

The EIS will address the need to: (a) Improve mobility and accessibility in the corridor; (b) minimize adverse environmental impacts of the transportation improvements; (c) provide long-term, cost-effective transportation infrastructure and services; and (d) enhance regional economic development.

DATES: Comment Due Date: Written comments on the purpose and need for the improvements, and the scope of the alternatives and impacts to be considered, should be sent to the address listed below in ADDRESSES by February 11, 2010. An interagency scoping meeting will be held on the following date:

• Monday, February 22, 2010, from 6 p.m. to 8 p.m., at the Warrensville Branch of the Cuyahoga County Public Library, 22035 Clarkwood Parkway, Warrensville Heights, Ohio 44128.

The location of the scoping meeting is accessible to persons with disabilities. Any individual with a disability who requires special assistance to participate in the scoping meetings should contact Maribeth Feke, Director of Programming and Planning, The Greater Cleveland Regional Transit Authority, 1240 W.6th Street, Cleveland, Ohio 44113-1331. Phone: 216-566-5160; Fax (216) 771-4424; E-mail to BlueLineExtension@pbworld.com no later than a week before the meeting date in order for GCRTA to make necessary arrangements.

ADDRESSES: Written comments on the purpose and need for the project, alternatives to be considered, scope of the analysis and the impacts to be considered should be sent by February 11, 2010 to: Maribeth Feke, Director of Programming and Planning, The Greater Cleveland Regional Transit Authority, 1240 W.6th Street, Cleveland, Ohio 44113-1331. Phone: 216-566-5160; Fax (216) 771-4424; E-mail: BlueLineExtension@pbworld.com.

FOR FURTHER INFORMATION CONTACT: Stephen Polito, Federal Transit Administration, Region 5, 200 West Adams Street, Suite 320, Chicago, IL 60606. Phone: (312) 353-1552; Fax: (312) 886-0351.

SUPPLEMENTARY INFORMATION: FTA, the federal lead agency, in cooperation with GCRTA, the local lead agency, may prepare an EIS for proposed transportation improvements in the Blue Line Corridor and extended areas. The lead agencies will also seek the cooperation of the Ohio Department of Transportation (ODOT); the Northeast Ohio Area Coordinating Agency (NOACA), the Metropolitan Planning Organization (MPO) responsible for transportation planning in metropolitan Cleveland; the City of Shaker Heights; and the City of Warrensville Heights.

The transportation improvements are being defined through an Alternatives Analysis. Issues and alternatives will be identified through a scoping process in accordance with the regulations implementing the National Environmental Policy Act (NEPA) of 1969, as amended. The scoping process will include refinement of the purpose and need for the project, and the identification and evaluation of alternative design concepts. It also will provide the basis for the selection of a preferred design concept for inclusion in the regional transportation plan. Subsequently, alternative alignments and designs that are consistent with the selected concept and scope may be addressed in an EIS.

The RTA is evaluating the potential extension of the Blue Line Rapid Transit Route beyond its current terminus in the Warrensville—Van Aken area of Shaker Heights. A major bus transfer center is co-located with the Blue Line, forming a major hub in RTA's service network. The major transportation improvement to be evaluated by this alternatives analysis includes light rail, bus access and circulation, and pedestrian access.

Although RTA completed a Major Investment Study (MIS) on this corridor in 2001, and a Draft Environmental Impact Statement (DEIS) was initiated with the MIS, no recommendation for a locally-preferred alternative was made. Since then, the City of Shaker Heights has completed a Transit-Oriented Development (TOD) Study of the Warrensville—Van Aken area, resulting in recommendations to redevelop the area. Major components of that plan are to: (a) Reconfigure the existing six-leg Warrensville—Van Aken intersection into a standard four-leg intersection; (b) modify the surrounding roadway network to accommodate the intersection reconfiguration and to improve walkability; and (c) to generally enhance the economic development opportunities in the area. Reconfiguration of the Warrensville—Van Aken intersection includes the relocation of the Blue Line's Van Aken station and the associated bus transfer center from the northwest quadrant to the southeast quadrant of the intersection. The City of Shaker Heights is currently engaged in another related project, the Warrensville—Van Aken Intermodal Facility Plan, which will guide redevelopment in the area of the relocated rail transit station and bus transfer center. The roadway reconfiguration project and the Intermodal Facility Plan are on-going, concurrent with the Blue Line Corridor Alternatives Analysis study.

Taking into account these existing plans, the Blue Line Corridor Alternatives Analysis study will evaluate the potential extension of the Blue Line in accordance with requirements of the FTA New Starts/Small Starts/Very Small Starts Program. The study will incorporate a community outreach and engagement program, designed to obtain and incorporate the opinions and ideas of the stakeholders and general public into the development and evaluation of the potential alternatives to extend the Blue Line and relocate the bus transfer center. The Blue Line Corridor Alternatives Analysis study consists of three phases, as described below:

Phase 1—Alternatives Analysis: The Alternatives Analysis will identify the transportation and development needs of the extended Blue Line Corridor and a preferred strategy for meeting those needs. In doing this, the Alternatives Analysis will carry forward the work performed under the 2001 Blue Line Extension MIS, the Warrensville—Van Aken TOD study and the Warrensville—Van Aken Intermodal Facility Plan. The outcome of the alternatives analysis will be a local consensus on a preferred alternative, for which environmental documentation would be developed in Phase 2, and FTA documentation for entry into Preliminary Engineering under FTA's New Starts (or Small Starts or Very Small Starts) Program can be prepared.

Phase 2—NEPA Documentation: This phase addresses NEPA investigations and environmental coordination. The NEPA investigation will begin in the alternatives evaluation phase, with identification of environmental fatal flaws and sensitive areas for each alternative as part of the alternatives screening. This will include input obtained through the community engagement process.

Phase 3—FTA New Starts Coordination: The project team will coordinate with FTA to ensure that all reporting requirements related to the project evaluation and rating, the financial capacity of the project sponsor, and the technical methods and planning assumptions used to prepare the travel demand and cost forecasts are met.

I. Scoping

RTA and the FTA invite interested individuals, organizations, and federal, state, and local agencies to participate in establishing the purpose, alternatives, schedule, and analysis approach, as well as an active public involvement program. The public is invited to comment on: (a) The purpose and need; (b) the alternatives to be addressed; (c) the modes and technologies to be evaluated; (d) the alignments and station locations to be considered; (e) the environmental, social, and economic impacts to be analyzed; and (f) the evaluation approach to be used to select a locally-preferred alternative. Scoping comments should focus on the issues and alternatives for analysis, and not on the preference for particular alternatives. (Individual preference for particular alternatives should be communicated during the comment period for the DEIS that will be prepared subsequent to the Alternatives Analysis study. Refer to FTA Procedures below.) Comments may be made at the meetings or in writing no later than March 15, 2010 (see DATES and ADDRESSES above).

NEPA “scoping” (40 CFR 1501.7) has specific and fairly limited objectives, one of which is to identify the significant issues associated with alternatives that will be examined in detail in the document, while simultaneously limiting consideration and development of issues that are not truly significant. It is in the NEPA scoping process that potentially significant environmental impacts—those that give rise to the need to prepare an Environmental Impact Statement—should be identified. Impacts that are deemed not to be significant need not be developed extensively in the context of the impact statement, thereby keeping the statement focused on impacts of consequence consistent with the ultimate objectives of the NEPA implementing regulations, which is “to make the Environmental Impact Statement process more useful to decision-makers and the public; and to reduce paperwork and the accumulation of extraneous background data, in order to emphasize the need to focus on real environmental issues and alternatives * * * [by requiring] impact statements to be concise, clear, and to the point, and supported by evidence that agencies have made the necessary environmental analyses.” (See Executive Order 11991, of May 24, 1977.) Transit projects may also generate environmental benefits; these should be highlighted as well. The impact statement process should draw attention to positive impacts, not just negative impacts.

Once the scope of the environmental study, including significant environmental issues to be addressed, is settled, an annotated outline of the document will be prepared and shared with interested agencies and the public. The outline serves at least three worthy purposes, including:

1. Documenting the results of the scoping process;

2. Contributing to the transparency of the process; and

3. Providing a clear roadmap for concise development of the environmental document.

II. Description of Study Area and Purpose and Need

The RTA completed a Strategic Plan for its future capital investments. The plan examined both the opportunities for expansion of RTA's system, and the constraints placed on it by RTA's financial capacities. Financial plans are suggesting that RTA will have to be very prudent in its capital investments to develop highly cost-effective improvements while maintaining its significant existing infrastructure. The Shaker Heights TOD plan suggested a relatively short extension of the Blue Line south and west of the existing station site.

The Shaker Heights TOD plan and the Blue Line Extension MIS provide a starting place for the Alternatives Analysis. The study area is within the urban settings of the City of Shaker Heights and the City of Warrensville Heights, but it also includes the communities of Highland Hills and North Randall. The project is bounded approximately by Interstate 271 to the east, Interstate 480 to the south, Warrensville-Center Road to the west, and Cedar Road to the North. The project area contains a diverse mix of medium-density residential developments, retail centers, large office developments, recreation uses of a golf course and horse racing track, and the major institutions of Cuyahoga Community College and the new University Hospital's Chagrin Highland Campus.

The purpose of the Blue Line Corridor Extension is to: (a) Develop transportation improvements that reach new transit markets located to the south and east of the corridor; (b) improve transit connections between downtown Cleveland and the southeastern portion of the region; (c) improve access for existing users of the corridor to destinations within the study area; and (d) promote redevelopment and/or development along the existing and extended Blue Line corridor. Among the defined transportation needs assessed in this document are the following issues and items.

• There is no direct freeway access from the southeastern portion of the region to downtown Cleveland or University Circle. This lack of direct access makes travel by personal automobile and transit difficult. Travelers must either take a longer interstate route (I-480 west to I-77 north) or congested and slow regional arterials.

• The bus and rail options for inbound travelers are limited and suffer from the same lack of direct routes as those operating personal automobiles. Bus service to downtown can either operate indirectly on freeways or use congested and slow regional arterials. The existing Blue Line offers an expedited ride on an exclusive guideway, but is limited because it does not have direct access to the freeway network, nor does it directly access University Circle.

• The RTA has limited park-and-ride opportunities in the study area for transit service to downtown Cleveland and University Circle. The nearest RTA park-and-ride lot, Southgate, only has 28 spaces, and is not adjacent to the freeway network. Commuters desiring to park-and-ride at the Warrensville—Van Aken Blue Line terminus must first deal with navigating the local street network, and then must park over ¼-mile from the station.

• Travelers who do use the existing roadway system experience significant congestion. Congestion occurs on all local freeways, with I-480 experiencing a LOS of F during both AM and PM peak periods. This congestion results in a loss of time and productivity for those traveling to and from the study area. Many of the arterials also experience LOS of D or worse.

• Outbound commuters who live along the existing Blue Line corridor in both Cleveland and Shaker Heights have connectivity issues using transit to connect to jobs and retail located within the study area.

III. Alternatives

The scoping meetings, other community meetings, and written comments will be a major source of alternatives for consideration in the Alternatives Analysis. Transportation alternatives proposed for consideration in the Blue Line Extension will include:

1. No Action Alternative—Existing and planned transit service and programmed new transportation facilities to the year 2030 with no new change to transportation services or facilities in the area beyond already committed projects.

2. Light Rail Build Alternative—Extension of the Blue Line south and west of the existing Warrensville—Van Aken Station site at the northwest corner to the southeast corner of Chagrin Avenue and Warrensville-Center Road; from the existing location south to the area of Interstate 480; or from the existing location east to south east to the area of Interstate 271.

3. Transportation System Management (TSM) Alternative—Other technology alternatives: TSM will include signal prioritization of bus transit corridor(s) through the use of GPS chips and signal controller upgrades.

Based on public and agency input received during scoping, variations of the above alternatives and other transportation-related improvement options, both transit and non-transit, will be considered for the Blue Line Extension project.

IV. Probable Effects/Potential Impacts for Analysis

The FTA and RTA will consider probable effects and potentially significant impacts to social, economic and environmental factors associated with the alternatives under evaluation in the EIS. Potential environmental issues to be addressed will include: land use, historic and archaeological resources, traffic and parking, noise and vibration, environmental justice, regulatory floodway/floodplain encroachments, coordination with transportation and economic development projects, and construction impacts. Other issues to be addressed in the EIS include: natural areas, ecosystems, rare and endangered species, water resources, air/surface water and groundwater quality, energy, potentially contaminated sites, displacements and relocations, and parklands. The potential impacts will be evaluated for both the construction period and the long-term operations period of each alternative considered. In addition, the cumulative effects of the proposed project alternatives will be identified. Measures to avoid or mitigate any significant adverse impacts will be developed.

Evaluation criteria will include consideration of the local goals and objectives established for the study, measures of effectiveness identified during scoping, and criteria established by FTA for `”New Start” transit projects.

V. FTA Procedures

In accordance with the regulations and guidance established by the Council on Environmental Quality (CEQ), as well as the Code of Federal Regulations, Title 23, Part 771 (23 CFR 771) of the FHWA/FTA environmental regulations and policies, the EIS will include an analysis of the social, economic and environmental impacts of each of the alternatives selected for evaluation. The EIS will also comply with the requirements of the 1990 Clean Air Act Amendments (CAAA) and with Executive Order 12898 regarding Environmental Justice. After its approval, the DEIS will be available for public and agency review and comment. Public hearings will be held on the DEIS. The DEIS will also constitute the Alternative Analysis required by the New Starts regulations.

The Final EIS will consider comments received during the DEIS public review and will identify the preferred alternative. Opportunity for additional public comment will be provided throughout all phases of project development.

Issued on: January 20, 2010.
Marisol Simón,
Regional Administrator.

[FR Doc. 2010-1707 Filed 1-27-10; 8:45 am]

BILLING CODE P